DEPARTMENT OF THE INTERIOR

National Park Service

[NPS-PWR-PWRO-10060; PPWONRADE2 PMP00E105.YP0000]

Final Environmental Impact Statement for Protecting and Restoring Native Ecosystems by Managing Non-Native Ungulates, Hawaii Volcanoes National Park, HI

AGENCY: National Park Service, Interior.

ACTION: Notice of availability.

SUMMARY: The National Park Service announces the availability of a Final Environmental Impact Statement for Protecting and Restoring Native Ecosystems by Managing Non-Native Ungulates (final plan/EIS) at Hawaii Volcanoes National Park, Hawaii. The final plan/EIS will provide a park-wide framework to systematically guide non-native ungulate management activities in a manner that supports long-term ecosystem protection, supports natural ecosystem recovery and provides desirable conditions for active ecosystem restoration, and supports protection and preservation of cultural resources.

DATES: The National Park Service will execute a Record of Decision (ROD) no sooner than 30 days from the date of publication by the U.S. Environmental Protection Agency of the notice of filing of the final plan/EIS in the Federal Register.

ADDRESSES: The final plan/EIS is available in electronic format at http://parkplanning.nps.gov/havo_ecosystem_feis. Printed copies of the final plan/EIS are available for viewing at the Hawaii Volcanoes National Park Kīlauea Visitor Center, One Crater Rim Drive, Hawaii National Park, HI 96718, and in local libraries (locations noted on above Web site). A limited number of compact discs (CDs) and printed copies of the final plan/EIS are also available by request. To obtain a copy or for further information, please contact: Rhonda Loh, Chief of Natural Resources Management, P.O. Box 52, Hawaii Volcanoes National Park, HI 96718-0052; (808) 985-6098.

SUPPLEMENTARY INFORMATION: The final plan/EIS responds to, and incorporates where appropriate, agency and public comments received on the draft plan/EIS, which was available for public review from November 18, 2011 to January 20, 2011. Three public meetings were held from December 5 through December 7, 2011 to gather input on the draft plan/EIS. Twenty-six pieces of correspondence were received during the public review period. NPS responses to substantive agency and public comments are provided as Appendix F of the final plan/EIS.

The final plan/EIS evaluates five alternatives for protecting and restoring native ecosystems by managing non-native ungulates. The NPS preferred alternative is “Alternative D: Comprehensive Management Plan that Maximizes Flexibility of Management Techniques.” This alternative includes a progression of management phases, monitoring, and considerations for the use of management tools; a population objective of zero non-native ungulates, or as low as practicable, in managed areas; complete boundary fencing for the Kahuku area and the Olaa rainforest; and potential use of localized internal fencing to assist in the control of non-native ungulates. Control techniques would be primarily lethal, but non-lethal techniques could also be considered. Volunteer programs would continue, but modifications would be required for lethal removal programs to meet current NPS practices. When approved, the plan will guide non-native ungulate management in Hawaii Volcanoes National Park for at least the next 15 to 20 years.

Because this is a delegated EIS, the official responsible for the final decision on the plan to protect and restore native ecosystems by managing non-native ungulates is the Regional Director, Pacific West Region, National Park Service. Subsequently, the official responsible for implementation of the approved plan will be the Superintendent, Hawaii Volcanoes National Park.

Dated: May 5, 2012.
Patricia L. Neubacher,
Acting Regional Director, Pacific West Region.

[FR Doc. 2013-01997 Filed 1-31-13; 8:45 am]

BILLING CODE 4312-FF-P